SMALL BUSINESS ADMINISTRATION

[Declaration of Disaster #3494]

State of Alaska

As a result of the President's major disaster declaration on April 26, 2003, I find that the Kenai Peninsula Borough, Matanuska-Susitna Borough and Municipality of Anchorage in the State of Alaska constitute a disaster area due to damages caused by a severe winter storm, including high winds and freezing temperatures that occurred on March 6 through March 14, 2003. Applications for loans for physical damage as a result of this disaster may be filed until the close of business on June 25, 2003 and for economic injury until the close of business on January 26, 2004 at the address listed below or other locally announced locations: U.S. Small Business Administration, Disaster Area 4 Office, P.O. Box 13795, Sacramento, CA 95853-4795.

In addition, applications for economic injury loans from small businesses located in the following contiguous boroughs and areas may be filed until the specified date at the above location: Denali Borough, Kodiak Island Borough, Lake and Peninsula Borough, Chugach Regional Educational Attendance Area (REAA), Copper River REAA, Delta/Greely REAA and Iditarod Area REAA in the State of Alaska.

The interest rates are:

| Percent
For Physical Damage:
Homeowners with credit available elsewhere | 5.875
Homeowners without credit available elsewhere | 2.937
Businesses with credit available elsewhere | 6.378
Businesses and non-profit organizations without credit available elsewhere | 3.189
Others (including non-profit organizations) with credit available elsewhere | 5.500
For Economic Injury:
Businesses and small agricultural cooperatives without credit available elsewhere | 3.189

The number assigned to this disaster for physical damage is 349411 and for economic injury the number is 9V0800.

(Catalog of Federal Domestic Assistance Program Nos. 59002 and 59008)
Dated: April 28, 2003.
Herbert L. Mitchell,
Associate Administrator for Disaster Assistance.

[FR Doc. 03-10939 Filed 5-2-03; 8:45 am]

BILLING CODE 8025-01-P